MARINE MAMMAL COMMISSION

Sunshine Act; Notice of Meeting

TIME AND DATE: The Marine Mammal Commission will meet in open session on Friday, 25 January 2013, in St. Petersburg, Florida, from 9:00 a.m. to 5:00 p.m., and on Tuesday, 29 January 2013, in La Jolla, California, from 9:00 a.m. to 5:00 p.m.

PLACE: The meeting on Friday, 25 January 2013, will be held in the Dolphin Conference Room at the National Marine Fisheries Service's Southeast Regional Office, 263 13th Avenue South, St. Petersburg, Florida, 33701, telephone (727) 824-5312. The meeting on Tuesday, 29 January 2013, will be held in Room 370 at the National Marine Fisheries Service's Southwest Fisheries Science Center, 3333 North Torrey Pines Court, La Jolla, California, 92037, telephone (858) 546-7000.

STATUS: The Commission expects that all portions of these meetings will be open to the public. It will allow public participation as time permits and as determined to be desirable by the Chairman. Should it be determined that it is appropriate to close a portion of either meeting to the public, any such closure will be carried out in accordance with applicable regulations (50 CFR 560.5 and 560.6).

Seating for members of the public at these meetings may be limited. The Commission therefore asks that those intending to attend either meeting advise it in advance by sending an email to the Commission at mmc@mmc.gov or by calling (301) 504-0087. Members of the public will need to present valid, government-issued photo identification to enter the buildings where the meetings will be held. For those attending the St. Petersburg meeting, parking is expected to be available in the gated parking lot at the Southeast Regional Office—entry gates are located at the main driveway entrance on 3rd Street South (this gate is entry only) and along 14th Avenue South (both entry and exit). For those attending the La Jolla meeting, parking is expected to be available in the front lot at the Southwest Fisheries Science Center. Visitors will need to check in with the receptionist to obtain a guest parking pass.

MATTERS TO BE CONSIDERED: The Commission plans to meet with regional management and scientific officials in each of the National Marine Fisheries Service's six regions to identify the most pressing marine mammal research and management needs. The Commission will use these meetings to develop a set of national priorities for guiding federal conservation efforts for marine mammals. Members of the public are invited to attend these meetings and to provide comments concerning priority issues. Those unable to attend any of the meetings may submit comments in writing. Written comments should be sent to Timothy J. Ragen, Executive Director, Marine Mammal Commission, 4340 East-West Highway, Room 700, Bethesda, Maryland 20814.

The Commission already has met with officials in the National Marine Fisheries Service's Northeast and Alaska Regions. The third and fourth meetings will be held in the National Marine Fisheries Service's Southeast and Southwest Regions. Notices of other meetings will be published in the Federal Register and posted on the Commission's Web site (http://www.mmc.gov) when the dates and locations are confirmed.

CONTACT PERSON FOR MORE INFORMATION: Timothy J. Ragen, Executive Director, Marine Mammal Commission, 4340 East-West Highway, Room 700, Bethesda, MD 20814; (301) 504-0087; email: tragen@mmc.gov.

Dated: January 4, 2013.
Michael L. Gosliner,
General Counsel.

[FR Doc. 2013-00252 Filed 1-4-13; 4:15 pm]

BILLING CODE 6820-31-P